DEPARTMENT OF COMMERCE

National Oceanic and Atmospheric Administration

RIN 0648-XA285

Magnuson-Stevens Act Provisions; General Provisions for Domestic Fisheries; Extension for Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS, has made a preliminary determination that the subject exempted fishing permit (EFP) application contains all the required information and warrants further consideration. This EFP extension would exempt four commercial fishing vessels from the restriction on fishing for, catching, possessing, landing, and selling female red crabs in excess of one standard tote for the purpose of research on an experimental female red crab fishery that is being conducted in conjunction with the Bigelow Laboratory for Ocean Sciences.

Regulations under the Magnuson-Stevens Fishery Conservation and Management Act require publication of this notification to provide interested parties the opportunity to comment on applications for proposed EFPs.

DATES: Comments must be received on or before April 12, 2011.

ADDRESSES: You may submit written comments by any of the following methods:

• E-mail: nero.efp@noaa.gov. Include in the subject line “Comments on Red Crab EFP Extension.”

• Mail: Patricia A. Kurkul, Regional Administrator, NMFS, NE Regional Office, 55 Great Republic Drive, Gloucester, MA 01930. Mark the outside of the envelope “Comments on Red Crab EFP Extension.”

• Fax: (978) 281-9135.

FOR FURTHER INFORMATION CONTACT: Carly Knoell, Fisheries Management Specialist, 978-281-9224, Carly.Knoell@noaa.gov.

SUPPLEMENTARY INFORMATION: An application for an EFP extension was submitted on February 28, 2011, by Dr. Richard Wahle of the Bigelow Laboratory for Ocean Sciences; Dr. Yong Chen of the School of Marine Sciences, University of Maine; and Mr. Jon Williams of the New England Red Crab Harvesters' Association to conduct commercial fishing activities that the regulations would otherwise restrict. The EFP would authorize four vessels to catch, possess, land, and sell female red crabs in excess of one standard tote of female red crab, as specified at 50 CFR 648.263(a)(3). Vessels would remain subject to all other commercial fishing regulations, including red crab possession limits and days-at-sea restrictions.

The primary goal of the experimental fishery is to harvest non-egg-bearing females to expand the red crab market and increase efficiency in the harvesting process. In addition, an experimental fishery that includes non-egg-bearing females has provided an opportunity to conduct at-sea sampling, renewed tagging, and model development to better evaluate the growth and reproductive performance of the population, as well as the impact of current and proposed harvesting on yields and egg production. This aspect of the project is conducted by an onboard researcher under the direction of Dr. Wahle.

The EFP was initially issued July 23, 2009, for 1 year, expiring July 22, 2010. An extension was granted July 26, 2010, through the end of the fishing year (February 28, 2011). A subsequent extension is now being requested due to initial logistical delays and additional time to complete research and funding components of this study. No additional exemptions will be included in the extension of this EFP and the activities of the study remain consistent with the Atlantic Deep-Sea Red Crab Fishery Management Plan.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 23, 2011.
Margo Schulze-Haugen,
Acting Director, Office of Sustainable Fisheries, National Marine Fisheries Service.

[FR Doc. 2011-7239 Filed 3-25-11; 8:45 am]

BILLING CODE 3510-22-P